Title 3—

The President

Proclamation 10060 of August 6, 2020

Adjusting Imports of Aluminum Into the United States

By the President of the United States of America

A Proclamation

1. On January 19, 2018, the Secretary of Commerce (Secretary) transmitted to me a report on his investigation into the effect of imports of aluminum articles on the national security of the United States under section 232 of the Trade Expansion Act of 1962, as amended (19 U.S.C. 1862). The Secretary found and advised me of his opinion that aluminum articles were being imported into the United States in such quantities and under such circumstances as to threaten to impair the national security of the United States.

2. In Proclamation 9704 of March 8, 2018 (Adjusting Imports of Aluminum Into the United States), I concurred in the Secretary's finding that aluminum articles were being imported into the United States in such quantities and under such circumstances as to threaten to impair the national security of the United States, and decided to adjust the imports of aluminum articles, as defined in clause 1 of Proclamation 9704, by imposing a 10 percent ad valorem tariff on such articles imported from most countries. I further stated that any country with which we have a security relationship is welcome to discuss with the United States alternative ways to address the threatened impairment of the national security caused by imports from that country, and noted that, should the United States and any such country arrive at a satisfactory alternative means to address the threat to the national security such that I determine that imports from that country no longer threaten to impair the national security, I may remove or modify the restriction on aluminum articles imports from that country and, if necessary, adjust the tariff as it applies to other countries as the national security interests of the United States require.

3. In Proclamation 9893 of May 19, 2019 (Adjusting Imports of Aluminum Into the United States), I noted that the United States had successfully concluded discussions with Canada on satisfactory alternative means to address the threatened impairment of the national security posed by aluminum imports from Canada. In particular, the United States agreed on a range of measures with Canada that were expected to allow imports of aluminum from Canada to remain stable at historical levels without meaningful increases, thus permitting the domestic capacity utilization to remain reasonably commensurate with the target level recommended in the Secretary's report. These included measures to monitor for and avoid import surges.

4. In light of this agreement, I determined that, under the framework in the agreement, imports of aluminum from Canada would no longer threaten to impair the national security, and thus I decided to exclude Canada from the tariff proclaimed in Proclamation 9704, as amended. I noted that the United States would monitor the implementation and effectiveness of the measures agreed upon with Canada in addressing our national security needs, and that I may revisit this determination as appropriate.

5. In Proclamation 9704, I also directed the Secretary to monitor imports of aluminum articles and inform me of any circumstances that in the Secretary's opinion might indicate the need for further action under section 232 of the Trade Expansion Act of 1962, as amended, with respect to such imports.

6. The Secretary has now advised me that imports of non-alloyed unwrought aluminum from Canada, which accounted for 59 percent of total aluminum imports from Canada during June 2019 through May 2020, increased substantially in the twelve months following my decision to exclude, on a long-term basis, Canada from the tariff proclaimed in Proclamation 9704. Imports of non-alloyed unwrought aluminum from Canada during June 2019 through May 2020 increased 87 percent compared to the prior twelve-month period and exceeded the volume of any full calendar year in the previous decade. Moreover, imports of these articles from Canada continue to increase, reaching in June of this year the highest level of any month since I decided to adjust imports of aluminum articles in Proclamation 9704. The increase in imports of these articles from Canada is principally responsible for the 27 percent increase in total aluminum imports from Canada during June 2019 through May 2020.

7. Canada is the largest source of United States imports of non-alloyed unwrought aluminum, accounting for nearly two-thirds of total imports of these articles from all countries in 2019 and approximately 75 percent of total imports in the first five months of 2020. The surge in imports of these articles from Canada coincides with a decrease in imports of these articles from other countries and threatens to harm domestic aluminum production and capacity utilization.

8. In light of the Secretary's information, I have determined that the measures agreed upon with Canada are not providing an effective alternative means to address the threatened impairment to our national security from imports of aluminum from Canada. Thus, I have determined that it is necessary and appropriate to re-impose the 10 percent ad valorem tariff proclaimed in Proclamation 9704, as amended, on imports of non-alloyed unwrought aluminum articles from Canada, commensurate with the tariff imposed on such articles imported from most countries.

9. The United States will continue to monitor the implementation and effectiveness of the measures agreed upon with Canada in addressing our national security needs, including with respect to imports of other aluminum articles. In particular, the United States will monitor for import surges of articles that continue to be exempt from the tariff proclaimed in Proclamation 9704, to ensure that exports of non-alloyed unwrought aluminum to the United States are not simply reoriented into increased exports of alloyed, further processed, or wrought aluminum articles.

10. Section 232 of the Trade Expansion Act of 1962, as amended, authorizes the President to adjust the imports of an article and its derivatives that are being imported into the United States in such quantities or under such circumstances as to threaten to impair the national security.

11. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, DONALD J. TRUMP, President of the United States of America, by the authority vested in me by the Constitution and the laws of the United States of America, including section 232 of the Trade Expansion Act of 1962, as amended, section 301 of title 3, United States Code, and section 604 of the Trade Act of 1974, as amended, do hereby proclaim as follows:

(1) Clause 2 of Proclamation 9704, as amended, is further amended in the second sentence by deleting “and” before “(d)” and inserting before the period at the end: “, (e) on or after 12:01 a.m. eastern daylight time on August 16, 2020, from all countries except Argentina, Australia, and Mexico; and (f) on or after 12:01 a.m. eastern daylight time on August 16, 2020, from Canada, except with respect to imports of non-alloyed unwrought aluminum provided for in subheading 7601.10, which shall be subject to the additional 10 percent ad valorem rate of duty”.

(2) The Secretary, in consultation with U.S. Customs and Border Protection and other relevant executive departments and agencies, shall revise the HTSUS so that it conforms to the amendments and effective dates directed in this proclamation. The Secretary shall publish any such modification to the HTSUS in the Federal Register.

(3) The modifications made by clause 1 of this proclamation shall be effective with respect to goods entered for consumption, or withdrawn from warehouse for consumption, on or after 12:01 a.m. eastern daylight time on August 16, 2020, and shall continue in effect, unless such actions are expressly reduced, modified, or terminated.

(4) Any exclusion of aluminum articles from Canada granted by the Secretary of Commerce pursuant to clause 3 of Proclamation 9704, as amended, that has not expired shall be valid under the modifications to the HTSUS made by this proclamation. Previously granted exclusions that have expired may be renewed.

(5) Any imports of non-alloyed unwrought aluminum articles from Canada provided for in subheading 7601.10 that were admitted into a United States foreign trade zone under “privileged foreign status” as defined in 19 CFR 146.41 prior to 12:01 a.m. eastern daylight time on August 16, 2020, shall be subject upon entry for consumption on or after such time and date to the 10 percent ad valorem rate of duty imposed by Proclamation 9704, as amended. Any imports of non-alloyed unwrought aluminum articles from Canada provided for in subheading 7601.10, except any articles that are eligible for admission under “domestic status” as defined in 19 CFR 146.43, that are admitted into a United States foreign trade zone on or after 12:01 a.m. eastern daylight time on August 16, 2020, shall be admitted only as “privileged foreign status” as defined in 19 CFR 146.41, and shall be subject upon entry for consumption on or after such time and date to the 10 percent ad valorem rate of duty imposed by Proclamation 9704, as amended.

(6) Non-alloyed unwrought aluminum articles provided for in subheading 7601.10 shall not be subject upon entry for consumption to the duty established in clause 2 of Proclamation 9704, as amended, merely by reason of manufacture in a U.S. foreign trade zone. However, non-alloyed unwrought aluminum articles provided for in subheading 7601.10 admitted to a U.S. foreign trade zone in “privileged foreign status” pursuant to clause 5 of this proclamation, shall retain that status consistent with 19 CFR 146.41(e).

(7) No drawback shall be available with respect to the duties imposed pursuant to this proclamation.

(8) Any provision of previous proclamations and Executive Orders that is inconsistent with the actions taken in this proclamation is superseded to the extent of such inconsistency.

IN WITNESS WHEREOF, I have hereunto set my hand this sixth day of August, in the year of our Lord two thousand twenty, and of the Independence of the United States of America the two hundred and forty-fifth.

Billing code 3295-F0-P

[FR Doc. 2020-17977

Filed 8-13-20; 11:15 a.m.]

Billing code 7020-02-C